ENVIRONMENTAL PROTECTION AGENCY

[EPA-HQ-OW-2021-0736; FRL-9261-01-OW]

Proposed Information Collection Request; Comment Request; Meat and Poultry Products Industry Data Collection

AGENCY: Environmental Protection Agency (EPA).

ACTION: Notice.

SUMMARY: The Environmental Protection Agency (EPA) is planning to submit an information collection request (ICR), “U.S. Environmental Protection Agency Meat and Poultry Products Industry Data Collection” (EPA ICR No. 2701.01, OMB Control No. 2040-NEW) to the Office of Management and Budget (OMB) for review and approval in accordance with the Paperwork Reduction Act (PRA). Before doing so, EPA is soliciting public comments on specific aspects of the proposed information collection as described below. This is a request for approval of a new collection. An Agency may not conduct or sponsor and a person is not required to respond to a collection of information unless it displays a currently valid OMB control number.

DATES: Comments must be submitted on or before January 18, 2022.

ADDRESSES: Submit your comments, referencing Docket ID No. EPA-HQ-OW-2021-0736, online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Stephen Whitlock, Engineering and Analysis Division, Office of Science and Technology, (4303T), Environmental Protection Agency, 1200 Pennsylvania Ave. NW, Washington, DC 20460; telephone number: 202-566-1541; email address: Whitlock.Steve@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA (44 U.S.C. 3501 et seq), EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Under the Clean Water Act (CWA), EPA develops effluent limitations guidelines (ELGs) to limit pollutants discharged from industrial point source categories. EPA initially promulgated ELGs for the Meat and Poultry Products (MPP) category in 1974 and amended the regulations in 2004. The current regulation covers wastewater directly discharged by meat and poultry slaughterhouses and further processors as well as independent renderers. Small facilities and indirect dischargers are not included in the current rule.

In EPA's cross-industry review of nutrients in industrial wastewater, the MPP category ranked among the top two industrial categories based on 2018 data, and EPA announced a detailed study of the MPP category in 2020. During the detailed study, EPA collected publicly available data and met with industry trade associations. Based on the detailed study, EPA found that there are existing, affordable technologies that can reduce nutrient concentrations in MPP wastewater. As part of the detailed study, EPA also found that pretreatment standards may be needed as publicly available data shows that pollutants from MPP facilities may passthrough and cause interference for some POTWs.

Publicly available data on MPP facilities is limited. To identify the base population of approximately 7,000 MPP facilities, EPA collected data from the US Department of Agriculture (USDA) Food Safety Inspection Service (FSIS). Using this base population, EPA attempted to find data on MPP wastewater, effluent limits, and treatment technologies by collecting publicly available facility permits and consulting the Integrated Compliance Information System (ICIS) dataset. Available data was limited to only those facilities directly discharging wastewater or individual states that require pretreatment permits to be reported, leaving a large data gap. Thus, a survey of the current MPP industry will be an essential portion of the rulemaking process, necessary for EPA to determine if the current regulations remain appropriate.

The data collection activities described in this Information Collection Request (ICR) will provide a robust dataset that characterizes wastewater generation, treatment, and discharge from MPP facilities. A short questionnaire will be administered as a census of the industry to confirm general information on the type and size (both production and employees) of the facility and gather information on wastewater generation and treatment. To reduce burden on the industry, a statistically representative subset of MPP facilities will complete a detailed survey collecting additional details on processing operations, types and amount of wastewater generated by operation, wastewater treatment details, and economic data. A small number of MPP facilities will also be asked to collect and analyze wastewater samples to characterize raw waste streams, wastewater treatment systems, and treated effluent for pollutants of interest.

The MPP industry has approximately 7,000 facilities across the country. The current rule contains 11 subparts, as the industry engages in a wide range of activities. Facilities range in size from very small (less than 10 employees) to large (over 500 employees). For EPA to complete the detailed technical and economic analysis for the entire industry necessary for the rulemaking process, the short questionnaire, detailed questionnaire, and sampling activities are essential.

Confidential Business Information (CBI) may be collected. In accordance with 40 CFR part 2, subpart B, section 2.203, the MPP Surveys inform respondents of their right to claim information as confidential. Each survey provides instructions for claiming confidentiality and informs respondents of the terms and rules governing the protection of CBI under the Clean Water Act and 40 CFR 2.203. Survey respondents are able to and are requested to mark any claimed confidential responses as CBI. EPA and its contractors will follow EAD's existing procedures to protect data labeled as CBI.

Form Numbers: None.

Respondents/affected entities: All Meat and Poultry Products facilities in the U.S., which includes facilities with the following NAICS codes: 311611, 311612, 311613, 311615, 311111, 311119, 311999. 1,633 facilities will receive the detailed questionnaire, 5,367 facilities will receive the short questionnaire, and no more than 20 facilities will be asked to conduct specific wastewater sampling events.

Respondent's obligation to respond: Mandatory (Clean Water Act section 308) (citing authority).

Estimated number of respondents: 7,000 (total).

Frequency of response: One-time data collection.

Total estimated respondent burden: 70,807 hours. Burden is defined at 5 CFR 1320.03(b).

Total estimated respondent cost: $3,219,484 one-time cost.

Changes in Estimates: This is a new data collection request and is a one-time temporary increase to the Agency's burden.

Deborah Nagle,
Director, Office of Science and Technology, Office of Water.

[FR Doc. 2021-25295 Filed 11-18-21; 8:45 am]

BILLING CODE 6560-50-P